DEPARTMENT OF ENERGY

Federal Energy Regulatory Commission

[Project No. 2411-030]

Eagle Creek Schoolfield, LLC, City of Danville; Notice of Reasonable Period of Time for Water Quality Certification Application

On February 28, 2025, Eagle Creek Schoolfield, LLC (Eagle Creek) submitted to the Federal Energy Regulatory Commission (Commission) a notice from the Virginia Department of Environmental Quality (Virginia DEQ) that Virginia DEQ received a request for a Clean Water Act section 401(a)(1) water quality certification as defined in 40 CFR 121.5, from Eagle Creek and the City of Danville, in conjunction with the above captioned project on February 27, 2025. Pursuant to the Commission's regulations,¹ we hereby notify Virginia DEQ of the following:

¹ 18 CFR 4.34(b)(5)(iii).

Date of Receipt of the Certification Request: February 27, 2025.

Reasonable Period of Time to Act on the Certification Request: One year, February 27, 2026.

If Virginia DEQ fails or refuses to act on the water quality certification request on or before the above date, then the certifying authority is deemed waived pursuant to section 401(a)(1) of the Clean Water Act, 33 U.S.C. 1341(a)(1).

Dated: March 20, 2025.
Carlos D. Clay,
Deputy Secretary.

[FR Doc. 2025-05109 Filed 3-25-25; 8:45 am]

BILLING CODE 6717-01-P